COMMITTEE FOR PURCHASE FROM PEOPLE WHO ARE BLIND OR SEVERELY DISABLED

Procurement List; Additions And Deletions

AGENCY: Committee for Purchase from People Who Are Blind or Severely Disabled.

ACTION: Additions to and deletions from procurement list.

SUMMARY: This action adds to the Procurement List services to be furnished by nonprofit agencies employing persons who are blind or have other severe disabilities, and deletes from the Procurement List products and services previously furnished by such agencies.

DATES: Effective Date: February 25, 2007.

ADDRESSES: Committee for Purchase From People Who Are Blind or Severely Disabled, Jefferson Plaza 2, Suite 10800, 1421 Jefferson Davis Highway, Arlington, Virginia 22202-3259.

For Further Information Or To Submit Comments Contact: Sheryl D. Kennerly, Telephone: (703) 603-7740, Fax: (703) 603-0655, or e-mail CMTEFedReg@jwod.gov.

SUPPLEMENTARY INFORMATION:

Additions

On November 17, 2006, November 24, 2006 and December 1, 2006, the Committee for Purchase From People Who Are Blind or Severely Disabled published notice (71 FR 66908; 67848; 69538) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, Juneau Ranger Station, Admiralty Nat'l Monument, Mendenhall Glacier Visitor Ctr., 8465 Old Dairy Road, Juneau, AK.

NPA: REACH, Inc., Juneau, AK.

Contracting Activity: USDA, Forest Service, Region 10, Juneau, AK.

Service Type/Location: Grounds Maintenance, Somersworth AFRC, (#187 Route 108), Somersworth, NH.

NPA: Northern New England Employment Services, Portland, ME.

Contracting Activity: Army Reserve Contracting Center-Devens Satellite Ofc., Devens, MA.

Service Type/Location: Packaging Service, Hurlburt Field AFB, (304 Terry Avenue), Hurlburt Field AFB, FL.

NPA: Lakeview Center, Inc., Pensacola, FL.

Contracting Activity: AF-Hurlburt Field, Hurlburt Field, FL.

Deletions

On November 17, 2006, November 24, 2006 and December 1, 2006, the Committee for Purchase From People Who Are Blind or Severely Disabled published notice (70 FR 66909; 67848; 69539) of proposed deletions to the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

Cross “Solo” Pen and Refill

NSN: 7510-01-425-6802—Cross “Solo” Pen and Refill

NSN: 7510-01-451-9182—Cross “Solo” Pen and Refill

NSN: 7510-01-451-9185—Cross “Solo” Pen and Refill

NSN: 7510-01-451-9187—Cross “Solo” Pen and Refill

NPA: In-Sight, Warwick, RI.

Contracting Activity: Office Supplies & Paper Products Acquisition Ctr., New York, NY.

Frame, Mattress, Wooden

NSN: 7210-00-NSH-0012—Frame, Mattress, Wooden

NSN: 7210-00-NSH-0013—Frame, Mattress, Wooden

NSN: 7210-00-NSH-0014—Frame, Mattress, Wooden

NSN: 7210-00-NSH-0015—Frame, Mattress, Wooden

NSN: 7210-00-NSH-0016—Frame, Mattress, Wooden

NSN: 7210-00-NSH-0017—Frame, Mattress, Wooden

NSN: 7210-00-NSH-0018—Frame, Mattress, Wooden

NPA: Wilkes County Vocational Workshop, Inc., North Wilkesboro, NC.

Contracting Activity:> Federal Prison Industries, Dept. of Justice.

Matt Rehab, Berth Crew

NSN: 7699 CL 1 Crew—Matt Rehab, Berth Crew

NSN: 7699 CL 2 Crew—Matt Rehab, Berth Crew

NPA: Georgia Industries for the Blind, Bainbridge, GA.

NPA: L.C. Industries For The Blind, Inc., Durham, NC

NPA: Mississippi Industries for the Blind, Jackson, MS

NPA: Virginia Industries for the Blind, Charlottesville, VA

NPA: Winston-Salem Industries for the Blind, Winston-Salem, NC.

Contracting Activity: GSA, Southwest Supply Center, Fort Worth, TX.

Box Spring Rehabilitation, Used & New (U&N)

NSN: 7699 29 X 76 U—Box-Spring Rehabilitation, Used

NSN: 7699 33 X 78 U—Box-Spring Rehabilitation, Used

NSN: 7699 36 X 75 U—Box-Spring Rehabilitation, Used

NSN: 7699 36 X 78 U—Box-Spring Rehabilitation, Used

NSN: 7699 36 X 80 U—Box-Spring Rehabilitation, Used

NSN: 7699 36 X 84 U—Box-Spring Rehabilitation, Used

NSN: 7699 38 X 75 U—Box-Spring Rehabilitation, Used

NSN: 7699 38 X 80 U—Box-Spring Rehabilitation, Used

NSN: 7699 39 X 78 U—Box-Spring Rehabilitation, Used

NSN: 7699 41-½ X 78U—Box-Spring Rehabilitation, Used

NSN: 7699 47 X 78 U—Box-Spring Rehabilitation, Used

NSN: 7699 53 X 73 U—Box-Spring Rehabilitation, Used

NSN: 7699 53 X 75 U—Box-Spring Rehabilitation, Used

NSN: 7699 53 X 80 U—Box-Spring Rehabilitation, Used

NPA: Georgia Industries for the Blind, Bainbridge, GA

NPA: L.C. Industries For The Blind, Inc., Durham, NC

NPA: Mississippi Industries for the Blind, Jackson, MS

NPA: Virginia Industries for the Blind, Charlottesville, VA

NPA: Winston-Salem Industries for the Blind, Winston-Salem, NC.

Contracting Activity: GSA, Southwest Supply Center, Fort Worth, TX.

Matt Rehab, Berth C.P.O.

NSN: 7699 Class 1—Matt Rehab, Berth C.P.O.

NSN: 7699 Class 2—Matt Rehab, Berth C.P.O.

NPA: Georgia Industries for the Blind, Bainbridge, GA

NPA: L.C. Industries For The Blind, Inc., Durham, NC

NPA: Mississippi Industries for the Blind, Jackson, MS

NPA: Virginia Industries for the Blind, Charlottesville, VA

NPA: Winston-Salem Industries for the Blind, Winston-Salem, NC.

Contracting Activity:> GSA, Southwest Supply Center, Fort Worth, TX.

Matt Rehab, Berth Crew

NSN: 7699 CL 1 Crew—Matt Rehab, Berth Crew

NSN: 7699 CL 2 Crew—Matt Rehab, Berth Crew

NPA: Georgia Industries for the Blind, Bainbridge, GA

NPA: L.C. Industries For The Blind, Inc., Durham, NC

NPA: Mississippi Industries for the Blind, Jackson, MS

NPA: Virginia Industries for the Blind, Charlottesville, VA.

NPA: Winston-Salem Industries for the Blind, Winston-Salem, NC.

Contracting Activity: GSA, Southwest Supply Center, Fort Worth, TX.

Matt Rehab, Grade B Reg Bed

NSN: 7699 26 X 76 B—Matt Rehab, Grade B Reg Bed

NSN: 7699 26 X 72½B—Matt Rehab, Grade B Reg Bed

NSN: 7699 27 X 73 B—Matt Rehab, Grade B Reg Bed

NSN: 7699 30 X 76 B—Matt Rehab, Grade B Reg Bed

NSN: 7699 31 X 78 B—Matt Rehab, Grade B Reg Bed

NSN: 7699 33 X 75 B—Matt Rehab, Grade B Reg Bed

NSN: 7699 34 X 76 B—Matt Rehab, Grade B Reg Bed

NSN: 7699 36 X 78 B—Matt Rehab, Grade B Reg Bed

NSN: 7699 38 X 75 B—Matt Rehab, Grade B Reg Bed

NPA: Georgia Industries for the Blind, Bainbridge, GA.

NPA: L.C. Industries For The Blind, Inc., Durham, NC.

NPA: Mississippi Industries for the Blind, Jackson, MS.

NPA: Virginia Industries for the Blind, Charlottesville, VA.

NPA: Winston-Salem Industries for the Blind, Winston-Salem, NC.

Contracting Activity: GSA, Southwest Supply Center, Fort Worth, TX.

Refill, Ballpoint Pen

NSN: 7510-00-754-2689—Refill, Ballpoint Pen

NSN: 7510-00-543-6793—Refill, Ballpoint Pen

NPA: Industries for the Blind, Inc., West Allis, WI.

Contracting Activity: Office Supplies & Paper Products Acquisition Ctr., New York, NY.

Services

Service Type/Location: Custodial Services, USDA, Animal and Plant Health Inspection Service, (6901 West Sunrise Blvd., Plantation, FL.

NPA: Abilities, Inc. of Florida, Clearwater, FL.

Contracting Activity: USDA, Animal & Plant Health Inspection Service-PFQ, Minneapolis, MN.

Service Type/Location: Grounds Maintenance, Marine Corps Air Station, San Diego, CA.

NPA: The ARC of San Diego, San Diego, CA.

Contracting Activity: Department of the Navy.

Sheryl D. Kennerly,
Director, Information Management.

[FR Doc. E7-1271 Filed 1-25-07; 8:45 am]

BILLING CODE 6353-01-P